DEPARTMENT OF THE INTERIOR

Bureau of Land Management

[19X R0680A2 RX.00256A20.34000000 AZA30355]

Public Land Order No. 7889; Extension of Public Land Order No. 7420; Arizona

AGENCY: Bureau of Land Management, Interior.

ACTION: Public Land Order.

SUMMARY: This Public Land Order (PLO) extends the duration of the withdrawal created by PLO No. 7420 for an additional 20-year term. PLO No. 7420 would otherwise expire on December 3, 2019. This extension is necessary to continue to protect the value of the capital investments, water-oriented developments, and dispersed recreation in the Bureau of Reclamation's (BOR) Lake Roosevelt expansion area. PLO No. 7420 withdrew 9,175 acres of National Forest System lands from location and entry under the United States mining laws, but not from leasing under the mineral leasing laws, for a 20-year period. The lands have been and will remain open to mineral and geothermal leasing.

DATES: This PLO takes effect on December 4, 2019.

FOR FURTHER INFORMATION CONTACT: Sara Ferreira, Land Law Examiner, at 602-417-9598 or by email at sferreir@blm.gov, Bureau of Land Management, Arizona State Office, One North Central Ave., Suite 800, Phoenix, AZ 85004. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: This Order extends the existing withdrawal to continue to protect the capital investments, water-oriented developments, and dispersed recreation resources in the Lake Roosevelt Expansion area.

Order

By virtue of the authority vested in the Secretary of the Interior by Section 204 of the Federal Land Policy and Management Act of 1976, 43 U.S.C. 1714, it is ordered as follows:

1. Subject to valid existing rights, PLO No 7420, (64 FR 67929, (1999)), which withdrew National Forest System lands from location and entry under the United States mining laws, but not from leasing under the mineral leasing laws, is hereby extended for an additional 20-year period to protect the Bureau of Reclamation's Lake Roosevelt expansion area.

2. The withdrawal extended by this Order will expire on December 3, 2039, unless as a result of review conducted prior to the expiration date pursuant to Section 204(f) of the Federal Land Policy and Management Act of 1976, 43 U.S.C. 1714(f), the Secretary determines the withdrawal shall be further extended.

Dated: November 25, 2019.
Timothy R. Petty,
Assistant Secretary for Water and Science.

[FR Doc. 2019-26025 Filed 11-29-19; 8:45 am]

BILLING CODE 4332-90-P